NATIONAL AERONAUTICS AND SPACE ADMINISTRATION

[Notice (02-097)]

NASA Advisory Council, Biological and Physical Research Advisory Committee Meeting, NASA-NIH Advisory Subcommittee and Life Sciences Advisory Subcommittee; Joint Meeting

AGENCY: National Aeronautics and Space Administration.

ACTION: Notice of meeting.

SUMMARY: In accordance with the Federal Advisory Committee Act, Public Law 92-463, as amended, the National Aeronautics and Space Administration announces a meeting of the NASA Advisory Council, Biological and Physical Research Advisory Committee, NASA-NIH Advisory Subcommittee and Life Sciences Advisory Subcommittee; Joint Meeting.

DATES: Wednesday, August 28, 2002, 8 a.m. to 5 p.m.

ADDRESSES: NASA Headquarters, 300 E St., SW., Rm. 9H40, Washington, DC 20546.

FOR FURTHER INFORMATION CONTACT: Dr. David Tomko, Code UB, National Aeronautics and Space Administration, Washington, DC 20546, 202/358-0220.

SUPPLEMENTARY INFORMATION: The meeting will be open to the public up to the seating capacity of the room. The agenda for the meeting is as follows:

—Action Status

—NASA Update from the Chief Scientist

—OBPR Associate Administrator Report

—Bioastronautics Research Division Update

—Discussion

—Working Lunch—Science Talk—TBD

—Fundamental Biology Research Division Update

—Flight Programs Report

—STS-107 Science Update

—STS-107 Education and Public Outreach

—Preparation of Committee Findings and Recommendations

—Review of Committee Findings and Recommendations

It is imperative that the meeting be held on this date to accommodate the scheduling priorities of the key participants. Visitors will be requested to sign a visitor's register.

Dated: August 14, 2002.
Sylvia K. Kraemer,
Acting Advisory Committee Management Officer, National Aeronautics and Space Administration.

[FR Doc. 02-21019 Filed 8-16-02; 8:45 am]

BILLING CODE 7510-01-P